DEPARTMENT OF THE INTERIOR

National Park Service

[NPS-WASO-NRNHL-DTS#-41104; PPWOCRADI0, PCU00RP14.R50000]

National Register of Historic Places; Notification of Pending Nominations and Related Actions

AGENCY: National Park Service, Interior.

ACTION: Notice.

SUMMARY: The National Park Service is soliciting electronic comments on the significance of properties nominated before August 30, 2025, for listing or related actions in the National Register of Historic Places.

DATES: Comments should be submitted electronically by October 8, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before August 30, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name(if applicable), Address/Boundary, City, Vicinity, Reference Number.

CALIFORNIA

Los Angeles County

Bollman, Henry O., House, 1530 North Ogden Drive, Los Angeles, SG100012302

Riverside County

Corona Foothill Ranch, 510 West Foothill Parkway, Corona, SG100012303

San Luis Obispo County

Tognini and Ghezzi Building, 152 N Ocean Avenue, Cayucos, SG100012304

IDAHO

Nez Perce County

Clearwater River Camas Prairie Railroad Bridge, U.S. Highway 12/Clearwater River, Lewiston, SG100012324

MICHIGAN

Muskegon County

Marsh, C.W., Company Building, 1385 Hudson Street, Muskegon, SG100012321

Washtenaw County

Zeeb Farm, (Historic and Architectural Resources of Northfield Township, Washtenaw County, Michigan MPS), 5310 Earhart Road, Northfield Township, MP100012312

German Park Recreation Club, (Historic and Architectural Resources of Northfield Township, Washtenaw County, Michigan MPS), 5549 Pontiac Trail, Northfield Township, MP100012313

Bessert-Ryan House, (Historic and Architectural Resources of Northfield Township, Washtenaw County, Michigan MPS), 7441 Spencer Road, Northfield Township, MP100012314

Saint John's Evangelical Lutheran Church, Parsonage, and Cemetery, (Historic and Architectural Resources of Northfield Township, Washtenaw County, Michigan MPS), 2945 East Northfield Church Road, Northfield Township, MP100012315

Leland, Joshua G. and Nancy (Bly), House, (Historic and Architectural Resources of Northfield Township, Washtenaw County, Michigan MPS), 3850 East North Territorial Road, Ann Arbor, MP100012316

NEW JERSEY

Bergen County

Woman's Club of Englewood, 187 Brinkerhoff Court, Englewood, SG100012317

Hunterdon County

Worman Road stone-arch bridge over Shoppon's Run, (Historic Bridges of Delaware Township, Hunterdon County, New Jersey MPS), Worman Road at Shoppon's Run, Delaware Township, MP100012318

NORTH DAKOTA

Nelson County

Petersburg Auditorium, (Federal Relief Construction in North Dakota, 1931-1943, MPS), 116 5th Street, Petersburg, MP100012309

RHODE ISLAND

Newport County

John Bliss House, 2 Wilbur Avenue, Newport, SG100012310

SOUTH CAROLINA

Lexington County

Professional Building, 528-532 Knox Abbott Drive, Cayce, SG100012319

TEXAS

Lamar County

Paris Grocer Company, 1221 South Church Street, Paris, SG100012326

VIRGINIA

Richmond INDEPENDENT CITY

Shockoe Valley and Tobacco Row Historic District (Boundary Increase), East Main Street, East Franklin Street, North 21st Street, North 20th Street, Richmond (Independent City), BC100012323

A request for removal has been made for the following resource(s):

NEBRASKA

Knox County

Niobrara River Bridge, Over the Niobrara R. 1.3 NW of Niobrara, Niobrara vicinity, OT92001576

Platte County

Columbus Loup River Bridge, (Highway Bridges in Nebraska MPS), US 30 over the Loup R., Columbus, OT92000735

Additional documentation has been received for the following resource(s):

NEBRASKA

Douglas County

Elkhorn Commercial Historic District (Additional Documentation), Four blocks in the original town plat of downtown Elkhorn centered on N Main and N 205th Streets, Elkhorn, AD100010478

Holt County

Biglin, W.J., House (Additional Documentation),615 East Douglas St.,O'Neill, AD100007506

VIRGINIA

Richmond INDEPENDENT CITY

Shockoe Valley and Tobacco Row Historic District (Additional Documentation), Roughly bounded by Dock, 15th, Clay, Franklin, and Peach Sts., Richmond (Independent City), AD83003308

Nomination(s) submitted by Federal Preservation Officers:

The State Historic Preservation Officer reviewed the following nomination(s) and responded to the Federal Preservation Officer within 45 days of receipt of the nomination(s) and supports listing the properties in the National Register of Historic Places.

MASSACHUSETTS

Bristol County

New Bedford Whaling National Historical Park, 33 William St., New Bedford, 03000283

Authority: Section 60.13 of 36 CFR part 60

Sherry A. Frear,
Chief, National Register of Historic Places/National Historic Landmarks Program.

[FR Doc. 2025-18375 Filed 9-22-25; 8:45 am]

BILLING CODE 4312-52-P